DEPARTMENT OF TRANSPORTATION

Bureau of Transportation Statistics

[Docket No. BTS-2022-XXXX]

Agency Information Collection Activities; New Information Collection: Freight Logistics Optimization Works (FLOW) Initiative

AGENCY: Bureau of Transportation Statistics (BTS), Department of Transportation (DOT).

ACTION: Notice of information collection.

SUMMARY: In accordance with the Paperwork Reduction Act of 1995, BTS announces its plan to submit the Information Collection Request (ICR) described below to the Office of Management and Budget (OMB) for its review and approval and invites public comment. BTS is also requesting an emergency approval for the pilot effort to develop a proof of concept for this collection as described below. BTS is requesting OMB approval for the emergency aspect of the collection within 7 days.

DATES: Comments regarding the pilot effort of this collection should be submitted within 5 days. All other comments should be submitted within 60 calendar days from the date of this publication.

ADDRESSES: Comments regarding the pilot effort of this collection should be submitted directly to the Information and Regulatory Affairs, Office of Management and Budget, 725—17th Street NW, Washington, DC 20503, Attention: BTS Desk Officer, by email at Michael.J.McManus@omb.eop.gov. All other comments may be submitted using any of the following methods:

• Federal eRulemaking Portal: http://www.regulations.gov. Follow the online instructions for submitting comments. The Federal eRulemaking Portal is available 24 hours each day, 365 days each year. You can obtain electronic submission and retrieval help and guidelines under the “FAQ” section of the Federal eRulemaking Portal website.

• Mail: Dockets Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC, 20590-0001 between 9 a.m. and 5 p.m. E.T., Monday through Friday, except Federal holidays.

Instructions: All submissions must include the Agency name and docket number. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Demetra V. Collia, Bureau of Transportation Statistics, Office of the Assistant Secretary for Research and Technology, USDOT, RTS-35, E36-302, 1200 New Jersey Avenue SE, Washington, DC 20590-0001, by email at demetra.collia@dot.gov.

SUPPLEMENTARY INFORMATION:

Title: Freight Logistics Optimization Works (FLOW) Project.

OMB Control Number: Not yet known.

Type of Request: New collection.

Estimated Time per Response: 26.5 hours.

Expiration Date: Not yet known.

Affected Public: Businesses in the freight industry.

Estimated Number of Respondents: 21 for pilot effort and up to 200 during the first three years of the program.

Estimated Total Annual Burden: 556.5 hours for pilot effort and 5,300 thereafter.

Abstract: Over the past several years, the U.S. supply chain has struggled with unprecedented congestion under COVID-induced surges of containerized cargo through our ports and intermodal networks. In March of this year, the White House announced the launch of the Freight Logistics Optimization Works (FLOW) initiative with the Department of Transportation and the freight industry to facilitate a collaboration and sharing of intermodal trade data. This collaboration would help improve supply chain efficiencies and reduce overall costs to U.S. consumers. The FLOW initiative builds on previous work by the Administration's Supply Chain Disruptions Task Force to ensure the expeditious movement of cargo from ship to shelf.

FLOW is a joint endeavor between the United States Department of Transportation (USDOT) and the freight industry aimed at improving key freight information exchange between parts of the goods movement supply chain. Data collected and exchanged will support industry collaborative demand management (CDM) decision making associated with the daily management of cargo and assets. Companies participating in FLOW will voluntarily submit relevant data; there is no regulatory requirement to submit such data.

Industry partners involved with FLOW, referred to as FLOW participants, include beneficial cargo owners (BCOs), ocean carriers, non-vessel operating common carriers (NVOs), ports and terminals, motor carriers, railroads, intermodal equipment providers (IEPs), and warehousers. It is expected that the practice of sharing operational information between FLOW participants will be a source of significant benefit to the operation of the national logistics system, i.e., the complex collection of personnel, transportation assets, vessels, trucks, railcars, equipment, and any and all other freight components that comprise the United States' supply chain system.

The first phase of the FLOW initiative is a pilot effort to develop a proof-of-concept information exchange and operationalize it to support industry decision-making. During the pilot phase, the initiative will focus on the flow of goods to and from a limited number of terminals (e.g., ports) and involve 21 participating companies. Following completion of the pilot, the program is expected to grow to include additional terminals and companies.

Data collected under this initiative is necessary to support the Administration's directive to identify and operationalize an information exchange to support a more resilient and fluid supply chain. Data will be submitted by participating companies via a secure online portal. Data submitted will include purchase order forecasts, cargo bookings, vessels in-transit, marine terminal space availability, drayage truck dispatch capacity, over-the-road truck dispatch capacity, chassis availability, and warehouse capacity. These data will be used to create an index of demand over capacity that is expected to act as a leading indicator of freight congestion and supply chain performance. The index, which will help communicate the degree of oversupply or undersupply of logistics assets, is intended to support a data driven approach to balance U.S. cargo traffic demand with system capacity.

Data Confidentiality Provisions: Data collected under the FLOW initiative may contain confidential business information. The confidentiality of these data will be protected under the Confidential Information Protection and Statistical Efficiency Act (CIPSEA) of 2018 (Title III of the Foundations for Evidence-Based Policymaking Act of 2018, Pub. L. 115-435, codified in 44 U.S.C. ch. 35). In accordance with CIPSEA, FLOW data will be used exclusively for statistical purposes and will not be disclosed in identifiable form except with the informed consent of the respondent.

Public Comments Invited: You are asked to comment on any aspect of this information collection, including: (1) whether the proposed collection is necessary for the performance of BTS's functions; (2) the accuracy of the estimated burden; (3) ways for BTS to enhance the quality, usefulness, and clarity of the collected information; and (4) ways that the burden could be minimized without reducing the quality of the collected information. Comments received after the comment closing date will be included in the docket and will be considered to the extent practicable.

Demetra V. Collia,
Bureau of Transportation Statistics, Office of the Assistant Secretary for Research and Technology.

[FR Doc. 2022-15247 Filed 7-15-22; 8:45 am]

BILLING CODE 4910-9X-P